ENVIRONMENTAL PROTECTION AGENCY

[FRL-7610-3]

Proposed Agreement Pursuant to Section 122(h)(1) of the Comprehensive Environmental Response, Compensation, and Liability Act (CERCLA) for the Liquid Dynamics Site in Chicago, IL

AGENCY: Environmental Protection Agency (“EPA”).

ACTION: Notice and request for public comment on proposed CERCLA 122(h)(1) agreement with 42 waste generators regarding a removal action to address residual soil contamination at the site of a former liquid hazardous waste treatment facility in Chicago, Illinois.

SUMMARY: In accordance with section 122(i)(1) of CERCLA, notification is hereby given of a proposed administrative settlement agreement regarding a removal action at the site of the former Liquid Dynamics liquid hazardous waste treatment facility on the South Side of Chicago, Illinois. EPA proposes to enter into this agreement under the authority of sections 122(h) and 107 of CERCLA. The proposed agreement has been executed by Allied Tube and Conduit Corporation, Acme Galvanizing, Inc., Ashland , Inc., Beatrice Companies, Inc., BorgWarner, Inc., Brightly Galvanized Products, Cargill, Inc., Chicago Magnesium Casting Company, Chicago Metallic Products, Conopco, Inc., Chicago Tribune, Ford Motor Company, HH Howard Company, Honeywell International, Inc., International Truck and Engine Corporation, General Electric Company, Halliburtan Industrial, Hannah Marine Corporation, Litton Systems, Inc. Joseph T Ryerson & Son, Inc., Lucent Technologies, Inc., MacLean-Fogg Company, Moen, Inc., Motorola, Inc., Nikko Materials USA, Inc., Panduit Corporation, Precision Twist Drill Company, PVS Chemical Solutions, Inc., R.R. Donnelley & Sons Company, RCM Industries, Inc., Reichhold, Inc., Reliable Galvanizing Company, Signode, Rexam Beverage and Can Company, Stepan Company, Superior Carriers, Inc., T.A.C., Inc., Taubensee Steel & Wire Company, Templeton Kenly & Company, Union Special Corporation, Valhi, Inc., and Zenith Electronics Corporation (the “Settling Parties”). Under the proposed agreement, the Settling Parties will implement a removal action to address residual soil contamination at the site. Also, the Settling Parties will pay $36,400 into a special account to fund costs the Agency will incur in overseeing the work under the agreement. In addition, under the agreement, EPA will waive all of its past response costs ($200,000) incurred in connection with the Liquid Dynamics Site. EPA incurred these past response costs in investigating the release of hazardous substances at the site, reviewing and approving remedy proposals, and negotiating a resolution of the case. For thirty days following the date of publication of this notice, the EPA will receive written comments relating to the past cost waiver provisions of this proposed agreement. EPA will consider all comments received and may decide not to enter into the past cost waiver provisions of this proposed agreement if comments disclose facts or considerations which indicate that the past cost waiver is inappropriate, improper or inadequate.

DATES: Comments on the proposed agreement must be received by EPA on or before February 17, 2004.

ADDRESSES: Comments should be addressed to the Docket Clerk, U.S. Environmental Protection Agency, Region 5, 77 West Jackson Boulevard, Chicago, Illinois, 60604-3590, and should refer to: In the Matter of Liquid Dynamics Site, EPA Docket No. V-W-04-C-773.

FOR FURTHER INFORMATION CONTACT: Reginald A. Pallesen, U.S. Environmental Protection Agency, Office of Regional Counsel, C-14J, 77 West Jackson Boulevard, Chicago, Illinois, 60604-3590, (312) 886-0555. A copy of the proposed administrative settlement agreement may be obtained in person or by mail from the EPA's Region 5 Office of Regional Counsel, 77 West Jackson Boulevard, Chicago, Illinois, 60604-3590. Additional background information relating to the settlement is available for review at the EPA's Region 5 Office of Regional Counsel.

Authority: The Comprehensive Environmental Response, Compensation, and Liability Act, as amended, 42 U.S.C. 9601-9675.

Douglas Ballotti,
Acting Director, Superfund Division, Region 5.

[FR Doc. 04-1045 Filed 1-15-04; 8:45 am]

BILLING CODE 6560-50-P